DEPARTMENT OF TRANSPORTATION

Federal Aviation Administration

RTCA PMC Program Management Committee Meeting

AGENCY: Federal Aviation Administration, Department of Transportation.

ACTION: RTCA PMC Program Management Committee meeting.

SUMMARY: The FAA is issuing this notice to advise the public of a meeting of RTCA Program Management Committee Meeting. This is a subcommittee to RTCA.

DATES: The meeting will be held on December 19, 2017 08:30 a.m.-4:30 p.m.

ADDRESSES: The meeting will be held at: RTCA Headquarters, 1150 18th Street NW., Suite 910, Washington, DC 20036.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the RTCA Program Management Committee Meeting. The agenda will include the following:

Tuesday, December 19, 2017—8:30 a.m.-4:30 p.m.

1. Welcome and Introductions

2. Review/Approve

A. Meeting Summary September 21, 2017

B. Administrative SC TOR Revisions

3. Publication Consideration/Approval

A. New Document—Guidelines for In Situ Eddy Dissipation Rate (EDR) Algorithm Performance, Prepared By SC-206 (Aeronautical Information and Meteorological Data Link Services)

B. New Document—MASPS for Synthetic Vision System for Attitude Awareness to Address Cast SE 22, Prepared By SC-213 (Enhanced Flight Vision Systems/Synthetic Vision Systems)

C. Revision to DO-230G—Standards for Airport Security Access Control Systems, Prepared By SC-224 (Standards for Airport Security Access Control Systems)

D. New Document—C2 Data Link Minimum Aviation System Performance Standards (MASPS) (SATCOM), Prepared By SC-228 (Minimum Performance Standards for UAS)

E. New Document—Addressing Human Factors/Pilot Interface Issues for Avionics, Prepared By SC-233 (Addressing Human Factors/Pilot Interface Issues for Avionics)

F. New Document—GNSS Dual-Frequency (1575/1176 MHZ) Antenna Minimum Operational Performance Standards for Airborne Equipment, Prepared By SC-159 (Navigation Equipment Using the Global Navigation Satellite System (GNSS))

G. Revision to DO-235B—Assessment of Radio Frequency Interference Relevant to the GNSS L1 Frequency Band, Prepared By SC-159 (Navigation Equipment Using the Global Navigation Satellite System (GNSS))

4. Integration and Coordination Committee (ICC)

5. Cross Cutting Committee (CCC)

6. Past Action Item Review

7. Discussion

A. NAC—Status Update

B. TOC—Status Update

C. DAC—Status Update

D. FAA Actions Taken on Previously Published Documents—Report

E. Special Committees—Chairmen's Reports and Active Inter-Special Committee Requirements Agreements (ISRA)—Review

F. European/Eurocae Coordination—Status Update

8. Documents Open for Final Review and Comment

9. Other Business

10. Schedule for Committee Deliverables and Next Meeting Date

11. New Action Item Summary

1.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on September 25, 2017.
Mohannad Dawoud,
Management and Program Analyst, Partnership Contracts Branch, ANG-A17, NextGen, Procurement Services Division, Federal Aviation Administration.

[FR Doc. 2017-20828 Filed 9-27-17; 8:45 am]

BILLING CODE 4910-13-P